DEPARTMENT OF COMMERCE

National Oceanic and Atmospheric Administration

[I.D. 010302G]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Research Steering Committee and Groundfish Oversight Committee in January, 2002, to consider actions affecting New England fisheries in the exclusive economic zone (EEZ). Recommendations from these groups will be brought to the full Council for formal consideration and action, if appropriate.

DATES: The meetings will be held on January 24 and January 25, 2002. See SUPPLEMENTARY INFORMATION for specific dates and times.

ADDRESSES: The meetings will be held at the Sheraton Colonial Hotel, One Audubon Road, Wakefield, MA 01880; telephone: (781) 245-9300.

Council address: New England Fishery Management Council, 50 Water Street, Mill 2, Newburyport, MA 01950.

FOR FURTHER INFORMATION CONTACT: Paul J. Howard, Executive Director, New England Fishery Management Council; (978) 465-0492.

SUPPLEMENTARY INFORMATION:

Meeting Dates and Agendas

Thursday, January 24, 2002, 9:30 a.m.- Research Steering Committee Meeting.

The committee will review its roles and responsibilities. They will review experimental fishery permit correspondence. They will also discuss the development of a mechanism for project tracking and evaluation and incorporation into the management process. The agenda will include planning for the next Request For Proposals. Time permitting, the committee will review Dr. William Phoel’s silver hake project report.

Friday, January 25, 2002, 9:30 a.m.- Groundfish Oversight Committee Meeting.

The Groundfish Oversight Committee will resume its work on Amendment 13 to the Northeast Multispecies Fishery Management Plan. Amendment 13 will establish rebuilding programs for overfished stocks, and end overfishing for those stocks where it is occurring. The Committee will review the goals and objectives for the Amendment, and may revise them if necessary. In addition, the Committee will review the management measures under consideration and may select additional management alternatives for future consideration. The Committee will also plan its future work on the Amendment.

Although non-emergency issues not contained in this agenda may come before this group for discussion, those issues may not be the subject of formal action during this meeting. Action will be restricted to those issues specifically listed in this notice and any issues arising after publication of this notice that require emergency action under section 305 (c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: January 4, 2002.
Richard W. Surdi,
Acting Director, Office of Sustainable Fisheries, National Marine Fisheries Service.

[FR Doc. 02-550 Filed 1-8-02; 8:45 am]

BILLING CODE 3510-22-S